CORPORATION FOR NATIONAL AND COMMUNITY SERVICE

Agency Information Collection Activities; Submission to the Office of Management and Budget for Review and Approval; Comment Request; Concept Paper, Application and Budget Instructions, Project Progress Report and Progress Report Supplement (OMB Control Number 3045-0038); Proposed Information Collection; Comment Request

AGENCY: Corporation for National and Community Service.

ACTION: Notice.

SUMMARY: The Corporation for National and Community Service (CNCS) has submitted a public information collection request (ICR) entitled Concept Paper, Application and Budget Instructions, Project Progress Report and Progress Report Supplement (OMB Control Number 3045-0038) for review and approval in accordance with the Paperwork Reduction Act of 1995.

DATES: Comments may be submitted, identified by the title of the information collection activity, by February 23, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Kelly Daly, at 202-606-6849 or email to vista@americorps.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on October 2, 2017 at Vol. 82, No. 189, Page 45832. This comment period ended December 1, 2017. Zero (0) public comments were received from this Notice.

Description: The forms are used to determine organizations' suitability to be AmeriCorps VISTA Sponsors, and once awarded a project, to gather information on their use of VISTA resources. CNCS seeks to renew the current information collection. The revisions are intended to clarify budget instructions. The information collection will otherwise be used in the same manner as the existing application. CNCS also seeks to continue using the current application until the revised application is approved by OMB. The current application expired on November 30, 2017.

Type of Review: Renewal.

Agency: Corporation for National and Community Service.

Title: Concept Paper, Application and Budget Instructions, Project Progress Report and Progress Report Supplement.

OMB Number: (OMB Control Number 3045-0038).

Agency Number: None.

Affected Public: Organizations and State, Local or Tribal Governments.

Total Respondents: 815.

Frequency: One time for the Concept Paper; annually for the Application with Budget Instructions and VISTA Progress Report Supplement; four times a year for the Progress Report in a project's first year and twice a year thereafter.

Average Time per Response: 15 hours (Application), 15 hours (VPR), 8 hours (VPRS).

Estimated Total Burden Hours: 13,040 hours (Application), 12,225 (VPR), 6,520 (VPRS).

Total Burden Cost (capital/startup): None.

Total Burden Cost (operating/maintenance): None.

Dated: January 16, 2018.
Eileen Conoboy,
Acting Director, AmeriCorps VISTA.

[FR Doc. 2018-01227 Filed 1-23-18; 8:45 am]

BILLING CODE 6050-28-P